DEPARTMENT OF HOMELAND SECURITY

Coast Guard

[CGD05-05-085]

Implementation of Sector Hampton Roads

AGENCY: Coast Guard, DHS.

ACTION: Notice of organizational change.

SUMMARY: The Coast Guard announces the stand-up of Sector Hampton Roads and its subordinate unit, Sector Field Office (SFO) Eastern Shore. Sector Hampton Roads is subordinate to the Fifth Coast Guard District Commander.

The Sector Hampton Roads Commander has the authority, responsibility, and missions of the prior Group Hampton Roads Commander, Commanding Officer Marine Safety Office Hampton Roads, Captain of the Port (COTP), Officer in Charge, Marine Inspection (OCMI), Federal on Scene Coordinator (FOSC), Federal Maritime Security Coordinator (FMSC), and Search and Rescue Mission Coordinator (SMC). The Deputy Sector Commander is designated alternate COTP, FMSC, FOSC, SMC and Acting OCMI. The Deputy Sector Commander also assumes active search suspension (ACTSUS) authority in the absence of the Sector Commander. The Commander of SFO Eastern Shore is subordinate to the Sector Commander and is vested with all the rights, responsibilities, duties, and authority of a Group Commander, which includes SMC. In the absence of the SFO Commander, SMC authority may remain with the Acting Commander. However, active search suspension (ACTSUS) authority will revert to the Commander, Sector Hampton Roads. A continuity of operations order has been issued ensuring that all previous MSO Hampton Roads, Group Hampton Roads, and Group Eastern Shore practices and procedures will remain in effect until superseded by an authorized Coast Guard official and/or document. This continuity of operations order addresses existing COTP regulations, orders, directives and policies.

DATES: This change was effective July 15, 2005.

ADDRESSES: Documents indicated in this preamble as being available in the docket are part of docket CGD05-05-085 and are available for inspection or copying at Fifth District Marine Safety Division, 431 Crawford Street, Portsmouth, VA 23704 between 7:30 a.m. and 4:30 p.m., Monday through Friday, except Federal Holidays.

FOR FURTHER INFORMATION CONTACT: Commander Brian Hall, Fifth District Marine Safety Division at 757-398-6520.

SUPPLEMENTARY INFORMATION: Sector Hampton Roads is located at 4000 Coast Guard Blvd., Portsmouth, VA 23703-2199. A command center supporting Sector Hampton Roads is located at Portsmouth, VA. A second command center operated by SFO Eastern Shore will support the SFO and the SFO's subordinate units along the Delmarva Peninsula in Delaware, Maryland, and Virginia. Sector Hampton Roads is composed of a Response Department, Prevention Department, and Logistics Department. All existing missions and functions performed by Marine Safety Office Hampton Roads, Group Hampton Roads, and Group Eastern Shore have been realigned under this new organizational structure as of July 15, 2005. MSO Hampton Roads, Groups Hampton Roads, and Group Eastern Shore no longer exist as organizational entities. The boundary of the Sector Hampton Roads Marine Inspection, Captain of the Port Zone, and SMC Area of Responsibility (AOR) is as follows: “Beginning at the intersection of the Maryland-Delaware boundary and the coast at Fenwick Island and proceeds along the Maryland-Delaware boundary to a point 75 degrees 30.0 minutes W. longitude; thence southerly to a point 75 degrees 30.0 minutes W. longitude on the Maryland-Virginia boundary, thence westerly along the Maryland-Virginia boundary as it proceeds across the Delmarva Peninsula, Pocomoke River, Tangier and Pocomoke Sounds, and Chesapeake Bay; thence northwesterly along the Maryland-Virginia boundary as those boundaries are formed along the southern bank of the Potomac river to the intersection of Prince William County, Virginia; thence northwestwardly along the Prince William County, Virginia boundary to the intersection of Loudon County, Virginia; thence westward following the Loudon County, Virginia boundary to the intersection with Clarke County, Virginia; thence northeasterly following the Loudon County boundary to the intersection of the Clark County, Virginia-West Virginia boundaries; thence northwestward along the Virginia-West Virginia boundary and continuing southwestward along the Virginia-West Virginia boundary and the Virginia-Kentucky boundary to the Tennessee boundary; thence eastward along the Virginia-Tennessee boundary to the Virginia-North Carolina boundary; thence eastward to the sea. The offshore boundary starts at Fenwick Island Light and proceeds east to a point 38 degrees 26.41 minutes N. latitude, 74 degrees 26.76 minutes W. longitude; thence southeastwardly to a point 37 degrees 19.23 minutes N. latitude, 72 degrees 13.22 minutes W. longitude; thence east to a point 37 degrees 19.23 minutes N. latitude, 67 degrees 54.11 minutes W. longitude; thence southeastwardly to the outermost extent of the EEZ at a point 36 degrees 59.18 minutes N. latitude, 67 degrees 13.65 minutes W. longitude; thence southwestwardly to a point 36 degrees 33 minutes N. latitude, 67 degrees 44.09 minutes W. longitude; thence west to a point on the Virginia-North Carolina boundary at a point 36 degrees 33 minutes N. latitude, 75 degrees 52.5 minutes W.″

The SFO Eastern Shore retains SMC responsibility for an AOR that starts on the Virginia Coast at 37 degrees 20 minutes N. latitude, 75 degrees 57 minutes W. longitude; thence proceeds east to 37 degrees 20 minutes N. latitude, 72 degrees 14 minutes W. longitude; thence northwesterly to 38 degrees 45 minutes N latitude, 75 degrees 04 minutes W. longitude; thence west to the Maryland-Delaware boundary; thence south along the Delaware state line to the southwest corner; thence east along the Delaware state line to a point at 75 degrees 30 minutes W. longitude, thence south to the Virginia-Maryland state line to a point at 75 degrees 30 minutes W. longitude; thence south to 37 degrees 20 minutes N. latitude, 75 degrees 57 minutes W. longitude.

A chart depicting this area can be found on the Fifth District Web page at http://www.uscg.mil/d5/D5_Units/Sectors.htm.

The following information is a list of updated command titles, addresses and points of contact to facilitate requests from the public and assist with entry into security or safety zones. Sector Hampton Roads: Commander: CAPT R. R. O'Brien, Jr., Deputy Sector Commander: CDR J. S. Kenyon. Address: Commander, U.S. Coast Guard Sector Hampton Roads, 4000 Coast Guard Blvd., Portsmouth, VA 23703-2199. Contact: General Number: (757) 668-5555; Chief, Prevention Department: (757) 668-6635; Chief, Response Department: (757) 638-2703; Chief, Logistics Department: (757) 483-8515; Emergency search and rescue: (757) 483-8567. Sector Field Office Eastern Shore: Commander: LCDR D. Reid. Address: Commander, U.S. Coast Guard Sector Field Office Eastern Shore, 3823 Main St., Chincoteague, VA 23336-1809. Contact: General Number: (757) 336-2800; Emergency search and rescue: (757) 336-2889.

Dated: August 4, 2005.
L.L. Hereth,
Rear Admiral, U. S. Coast Guard, Commander, Fifth Coast Guard District.

[FR Doc. 05-16412 Filed 8-17-05; 8:45 am]

BILLING CODE 4910-15-P